DEPARTMENT OF AGRICULTURE

Agricultural Marketing Service

7 CFR Part 1250

[Docket No. PY-05-005]

Egg Research and Promotion Program; Section 610 Review

AGENCY: Agricultural Marketing Service.

ACTION: Notice of regulatory review and request for comments.

SUMMARY: This document announces the Agricultural Marketing Service's (AMS) review of the Egg Research and Promotion Program (conducted under the Egg Research and Promotion Order), under the criteria contained in Section 610 of the Regulatory Flexibility Act (RFA).

DATES: Written comments must be received by April 7, 2006.

ADDRESSES: Interested persons are invited to submit written comments concerning this notice to Angela C. Snyder, Chief, Research and Promotion, Office of the Deputy Administrator, Poultry Programs, Agricultural Marketing Service, U.S. Department of Agriculture, 1400 Independence Avenue, SW.; STOP 0256, Room 3932-South; Washington, DC 20250-0256; or by fax to (202) 720-5631. Alternatively, comments may be submitted electronically to: angie.snyder@usda.gov or http://www.regulations.gov. All comments should reference the docket number and the date and page number of this issue of the Federal Register. All comments received will be made available for public inspection at the above address during regular business hours. A copy of this notice may be found at: http://www.ams.usda.gov/poultry/pyrp.htm/.

FOR FURTHER INFORMATION CONTACT: Angela C. Snyder, Office of the Deputy Administrator, Poultry Programs, Agricultural Marketing Service, U.S. Department of Agriculture, 1400 Independence Avenue, SW.; STOP 0256, Room 3932-South; Washington, DC 20250-0256 telephone (760) 386-0424; fax (202) 720-5631, or e-mail at angie.snyder@usda.gov.

SUPPLEMENTARY INFORMATION: The Egg Research and Consumer Information Act of 1974, as amended (7 U.S.C. 1201 et seq.), authorized the Egg Research and Promotion Order (7 CFR part 1250), which is industry-operated and funded with oversight by USDA. The Egg Research and Promotion Order's objective is to establish, finance, and carry out promotion, research, and education programs to improve, maintain, and develop markets for eggs, egg products, spent fowl, and products of spent fowl.

The program became effective on August 1, 1976, when the Egg Research and Promotion Order (7 CFR part 1250) was implemented. In accordance with the legislation, the American Egg Board was established, and assessments at 5 cents per 30-dozen case of eggs soon began to be levied. Since that time, assessments have fluctuated from 2½ cents per 30-dozen case of eggs to the current 10 cents per 30-dozen case approved by producer referendum in 1994.

Assessments collected under this program are used to carry out promotion, research, and education programs to improve, maintain, and develop markets for eggs, egg products, spent fowl, and products of spent fowl.

The program is administered by the American Egg Board, which is composed of egg producers and egg producer representatives. Each of the 18 members and their specific alternates are appointed by the Secretary of Agriculture from nominations submitted by certified producer organizations. The Secretary annually appoints half of the Board, nine members and nine alternates, for 2-year terms.

AMS published in the Federal Register (64 FR 8014; February 18, 1999) its plan to review certain regulations, including the Egg Research and Promotion Program (conducted under the Egg Research and Promotion Order), under criteria contained in section 610 of the Regulatory Flexibility Act (RFA; 5 U.S.C. 601-612). The plan was updated in the Federal Register on August 14, 2003 (68 FR 48574). Because many AMS regulations impact small entities, AMS decided, as a matter of policy, to review certain regulations which, although they may not meet the threshold requirement under section 610 of the RFA, warrant review. Accordingly, this notice and request for comments is made for the Egg Research and Promotion Order.

The purpose of the review is to determine whether the Order should be continued without change, amended, or rescinded (consistent with the objectives of the Egg Research and Consumer Information Act of 1974) to minimize the impacts on small entities. AMS will consider the continued need for the Order; the nature of complaints or comments received from the public concerning the Order; the complexity of the Order; the extent to which the Order overlaps, duplicates, or conflicts with other Federal rules, and, to the extent feasible, with State and local regulations; and the length of time since the Order has been evaluated or the degree to which technology, economic conditions, or other factors have changed in the area affected by the Order.

Written comments, views, opinions, and other information regarding the Order's impact on small businesses are invited.

Dated: January 31, 2006.
Lloyd C. Day,
Administrator, Agricultural Marketing Service.

[FR Doc. E6-1563 Filed 2-3-06; 8:45 am]

BILLING CODE 3410-02-P